DEPARTMENT OF HEALTH AND HUMAN SERVICES

Centers for Disease Control and Prevention

[60Day-08-0337]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960, send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Blood Lead Surveillance System (OMB No. 0920-0337)—Revision—National Center for Environmental Health (NCEH), Coordinating Center for Environmental Health and Injury Prevention (CCEHIP), Centers for Disease Control and Prevention (CDC).

Background and Brief Description

The National Blood Lead Surveillance System (NBLSS) would like to continue its effort to collect information related to lead exposure among children less than six years old. The overarching goal of this system is to establish Childhood Lead Surveillance Systems at the state and national levels. This is a revision request in addition to a 3-year revision with an increase in the burden hours and inclusion of the adult blood lead surveillance system. As part of this effort we would like to revise this application to include 3 additional State and local Childhood Lead Poisoning Prevention Programs (CLPPP) who report to the NBLSS. These three programs were added to help provide a more comprehensive picture of childhood lead poisoning in the United States.

The objectives for developing this system are three-fold. First, we would like to use surveillance data to estimate the extent of elevated blood-lead levels (BLLs) among children less than 6 years old. This is important because it will allow us to systematically track the management and follow-up of those children found to be poisoned with lead.

Our next objective for the development of this system is to examine potential sources of lead exposure. Although we've been successful in eliminating atmospheric lead with the use of unleaded gasoline and have continued to make strides in the elimination of household sources of lead commonly found in paint and dust, recent events have highlighted other potentially hidden sources of lead. This system will allow us to track the burden of such hidden sources and will help us eliminate such threats with the establishment of laws aimed at preventing the importation of such goods into our nation. The establishment of such laws will of course be a joint effort between several federal agencies; however, this surveillance system will help facilitate our efforts.

The final objective of this system is to facilitate the allocation of resources for lead poison prevention activities. The allocation of federal resources to State surveillance systems are based on reports of blood-lead tests from laboratories. Ideally, laboratories report results of all lead tests to the state health department. State health departments then send reports to CDC using de-identified data. It is from these reports that CDC is able to determine funding levels.

In addition to reporting child blood lead levels, many laboratories also report adult blood lead levels. Thus, this OMB request would also like to include the Adult Blood Lead Epidemiology and Surveillance Program (ABLES). The ABLES Program is a state-based surveillance system under which participating States provide information to CDC's National Institute for Occupational Safety and Health (NIOSH) on laboratory reported blood lead levels among adults. For all adults (16 and older) the State will provide data on all laboratory reports when the adult's blood lead level is equal to or greater than 25 mcg/dl. These data are to be consolidated into a single data submission by task time periods.

The ABLES program ultimately aims to collect the complete list of variables for all blood lead tests, including blood lead levels less than 25 mcg/dl, and urges all States to progressively supply this information as it becomes available. All data submissions must be delivered in the supplied format providing a field for 20 variables, even if some variables have no data available at the time.

The use of both Childhood Lead Surveillance System and the ABLES Program will allow us to systematically track pockets of exposure to lead. It will also allow us to fully understand exposure potential and ways in which to prevent future sources of lead poisoning. Both systems are invaluable and will no doubt help us as we continue our stride in the elimination of lead poisoning in our nation.

There is no cost to respondents other than their time.

Estimated Annualized Burden Table
Respondents | Number of respondents | Number of response per respondent | Average burden per response (in hrs.) | Total burden hours
State and Local Health Departments for Child Surveillance | 42 | 4 | 2 | 336
State and Local Health Departments for Adult Surveillance | 40 | 4 | 2 | 320
Total |  |  |  | 656

Dated: February 6, 2008.
Maryam I. Daneshvar,
Acting Reports Clearance Officer, Centers for Disease Control and Prevention.

[FR Doc. E8-2836 Filed 2-14-08; 8:45 am]

BILLING CODE 4163-18-P